DEPARTMENT OF COMMERCE

National Oceanic and Atmospheric Administration

Marine and Coastal Area-Based Management Advisory Committee Meeting

AGENCY: National Oceanic and Atmospheric Administration (NOAA), Department of Commerce (DOC).

ACTION: Notice of open public meeting.

SUMMARY: This notice sets forth the proposed schedule and agenda of a forthcoming meeting of the Marine and Coastal Area-based Management Advisory Committee (MCAM). The members will discuss and provide advice on issues outlined under SUPPLEMENTARY INFORMATION below.

DATES: The meeting will be February 1 and 2, 2024 from 9 a.m. to 5 p.m. eastern time.

ADDRESSES: The meeting will be held in the Spring Room at the Silver Spring Civic Building, 1 Veterans Place, Silver Spring, MD 20910.

FOR FURTHER INFORMATION CONTACT: Lauren Wenzel, Director, NOAA's National Marine Protected Areas Center, Lauren.Wenzel@noaa.gov, (240) 533-0652; or Heather Sagar, Senior Policy Advisor, NOAA Fisheries, Heather.Sagar@noaa.gov, (301) 427-8019.

SUPPLEMENTARY INFORMATION: As required by section 10(a)(2) of the Federal Advisory Committee Act, 5 U.S.C. app, notice is hereby given of a meeting of MCAM. The MCAM was established in 2022 to advise the Under Secretary of Commerce for Oceans and Atmosphere on science-based approaches to area-based protection, conservation, restoration, and management in coastal and marine areas, including the Great Lakes. The charter is located online at https://oceanservice.noaa.gov/ocean/marine-coastal-fac/.

I. Matters To Be Considered

The meeting time and agenda are subject to change. The meeting is convened to discuss the following topics: area-based management in the U.S.; the use of NOAA's science and knowledge to guide area-based management; NOAA's restoration programs and tools; how NOAA may best leverage area-based management tools, investments, and authorities; how NOAA may foster healthy coastal communities through partnerships, jobs, and support; the Biden-Harris Administration's America the Beautiful initiative, as well as various administrative and organizational matters. The times and the agenda topics described here are subject to change.

II. Public Comment Instructions

The meeting will be open to public participation (check agenda on website to confirm time). Written comments should be received by the Designated Federal Official by January 26, 2024, to provide sufficient time for Committee review. Written comments received after January 26, 2024, will be distributed to the Committee, but may not be reviewed prior to the meeting date. To submit written comments, please email Ellie Roberts, ellie.roberts@noaa.gov.

III. Special Accommodations

This meeting is physically accessible to people with disabilities. Requests for sign language interpretation or other auxiliary aids should be directed to Ellie Roberts at ellie.roberts@noaa.gov, at least 5 days prior to the meeting date.

IV. Exceptional Circumstances

Pursuant to 41 CFR 102-3.150, the notice for this meeting is given fewer than 15 calendar days prior to the meeting due to exceptional circumstances. It is imperative that the inaugural meeting of the MCAM proceed as scheduled, as Committee members have made business plans to attend the meeting, there is no other meeting date in a reasonable time frame that would accommodate schedules without causing undue financial burden, and there is an immediate business and mission need for the FAC to convene to establish its workflows and anticipated products.

John Armor,
Designated Federal Official, Marine and Coastal Area-based Management Advisory Committee, Director, Office of National Marine Sanctuaries, National Ocean Service, National Oceanic and Atmospheric Administration.

[FR Doc. 2024-00912 Filed 1-17-24; 8:45 am]

BILLING CODE 3510-NK-P